ENVIRONMENTAL PROTECTION AGENCY

[FRL-6853-8]

Agency Information Collection Activities: Submission for OMB Review; Comment Request; Invitation for Bids and Request for Proposals (IFBs and RFPs)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Invitation for Bids and Request for Proposals. OMB Control Number 2030-0006, expiration date 9/30/2000. The ICR describes the nature of the information collection and its expected burden and cost; where appropriate, it includes the actual data collection instrument.

DATES: Comments must be submitted on or before September 18, 2000.

FOR FURTHER INFORMATION CONTACT: For a copy of the ICR contact Sandy Farmer at EPA by phone at (202) 260-2740, by E-mail at farmer.sandy@epamail.epa.gov, or download off the Internet at http://www.epa.gov/icr and refer to EPA ICR No. 1038.10. For technical questions about the ICR contact Leigh Pomponio at EPA by phone at (202) 564-4364 or by email at pomponio.leigh@epa.gov.

SUPPLEMENTARY INFORMATION: Title: Invitation for Bids and Requests for Proposals (IFPs and RFPs). OMB Control No. 2030-0006. EPA ICR No. 1038.10. This is a request for extension of a currently approved collection.

Abstract: EPA requires contractors to submit information in order to be considered for the award of a contract. Information requested includes: prices for the supplies/services requested, information on past performance, technical and cost information, and general financial and organizational information. Information provided by vendors in response to an IFB/RFP is used to evaluate which vendor will provide the best product in terms of quality, timeliness, and price. Responses to IFBs/RFPs are required for a company to be considered for contract award. Contractor confidential business information submitted in connection with an IFB/RFP is protected from public release in accordance with 40 CFR 2.201 et seq.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 04/20/00 (65 FR 21177). No comments were received.

Burden Statement: The annual public reporting and recordkeeping burden for this collection of information is estimated to average 8 hours per response for IFBs and 251 hours per response for RFPs. Burden means the total time, effort, or financial resources expended by persons to generate, maintain, retain, or disclose or provide information to or for a Federal Agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Large and small businesses which want to supply EPA with supplies and services.

Estimated Number of Respondents: 288 for IFBs and 973 for RFPs.

Frequency of Response: On occasion.

Estimated Total Annual Hour Burden: 246,527 hours.

Estimated Total Annualized Capital and Operating & Maintenance Cost Burden: $0.

Send comments on the Agency's need for this information, the accuracy of the provided burden estimates, and any suggested methods for minimizing respondent burden, including through the use of automated collection techniques to the following addresses. Please refer to EPA ICR No. 1038.10 and OMB Control No. 2030-0006 in any correspondence.

Ms. Sandy Farmer, U.S. Environmental Protection Agency, Office of Environmental Information, Collection Strategies Division (2822), 1200 Pennsylvania Ave, NW, Washington, DC 20460;

and

Office of Information and Regulatory Affairs, Office of Management and Budget, Attention: Desk Officer for EPA, 725 17th Street, NW, Washington, DC 20503.

Dated: August 10, 2000.
Oscar Morales,
Director, Collection Strategies Division.

[FR Doc. 00-21074 Filed 8-17-00; 8:45 am]

BILLING CODE 6560-50-P